DEPARTMENT OF AGRICULTURE

Agricultural Marketing Service

[Doc. No. AMS-LPS-15-0029]

Withdrawal of United States Standards for Livestock and Meat Marketing Claims

AGENCY: Agricultural Marketing Service, USDA.

ACTION: Notice of withdrawal.

SUMMARY: This Notice informs the public that the Agricultural Marketing Service (AMS) of the U.S. Department of Agriculture (USDA) is withdrawing the U.S. Standards for Livestock and Meat Marketing Claims. Specifically, AMS is withdrawing: (1) The Grass (Forage) Fed Claim for Ruminant Livestock and the Meat Products Derived from Such Livestock (Grass (Forage) Fed Marketing Claim Standard); and (2) the Naturally Raised Claim for Livestock and the Meat and Meat Products Derived From Such Livestock (Naturally Raised Marketing Claim Standard).

DATES: Effective Date: January 12, 2016.

FOR FURTHER INFORMATION CONTACT: David Bowden, Jr. Chief, Standardization Branch, Quality Assessment Division; Livestock, Poultry, and Seed Program; Agricultural Marketing Service, USDA, Room2096-S, STOP 0249, 1400 Independence Avenue SW.; Washington, DC 20250-0249, david.bowden@ams.usda.gov, 202/720-5705.

SUPPLEMENTARY INFORMATION:

Background

Section 203(c) of the Agricultural Marketing Act of 1946, (7 U.S.C. 1621-1627), directs and authorizes the Secretary of Agriculture “to develop and improve standards of quality, condition, quantity, grade, and packaging, and recommend and demonstrate such standards in order to encourage uniformity and consistency in commercial practices.” USDA is committed to carrying out this authority in a manner that facilitates the marketing of agricultural products. One way AMS achieves this objective is through the development and maintenance of voluntary standards.

The U.S. Standards for Livestock and Meat Marketing Claims were initiated through a Federal Register Notice (67 FR 79553) published on December 30, 2002. The Notice was published as a result of increasing demand from the livestock and meat industries wishing to distinguish their products in the marketplace. The Notice proposed minimum requirements for livestock and meat industry production/marketing claims that, when adopted, would become the U.S. Standards for Livestock and Meat Marketing Claims. As a means of increasing the credibility of the production/marketing claims, AMS provides the industries with an option to have their production/marketing claims verified using voluntary USDA-Certified or USDA-Verified programs in accordance with procedures contained in Part 62 of Title 7 of the Code of Federal Regulations (7 CFR part 62). Consequently, the Grass (Forage) Fed Marketing Claim Standard was published on October 16, 2007 (72 FR 58631), and the Naturally Raised Marketing Claim Standard was published on January 21, 2009 (74 FR 3541).

Questions & Answers

Why is AMS withdrawing the U.S. Standards for Livestock and Meat Marketing Claims?

AMS continually reviews the services it provides. During the course of this review, AMS has determined that certain services do not fit within the Agency's statutory mandate to facilitate the marketing of U.S. agricultural products. One such issue that has risen is the use of the U.S. Standards for Livestock and Meat Marketing Claims, which AMS believes does not facilitate the marketing of agricultural products in a manner that is useful to stakeholders or consumers. When AMS verifies a production/marketing claim, a company often seeks to market the USDA-verified production/marketing claim on a food product label. However, the company must receive pre-approval from the USDA Food Safety and Inspection Service (FSIS) or meet the Food and Drug Administration (FDA) labeling requirements. These agencies regulate food labels for the vast majority of agricultural commodities produced in the U.S. and ensure the labels are truthful and not misleading. The authority over production/marketing claim verification and food labeling approval presents challenges to companies wishing to market USDA-verified production/marketing claims on food labels, because there is no guarantee that an USDA-verified production/marketing claim will be approved by FSIS or FDA.

Additionally, AMS seeks to adhere to the requirements outlined in the Office of Management and Budget (OMB) Circular A-119 and The National Technology Transfer and Advancement Act of 1995 (Pub. L. 104-113 or NTTAA), http://www.nist.gov/standardsgov/. The OMB CircularA-119 establishes policies on Federal use and development of voluntary consensus standards and on conformity assessment activities. The NTTAA directs Federal agencies to use technical standards that are developed or adopted by voluntary consensus standards bodies, using such technical standards as a means to carry out policy objectives or activities determined by the agencies and departments, except where inconsistent with applicable law or impractical. Going forward, in the absence of a Congressional mandate to develop and maintain a marketing claim standard, such as AMS does for organic products and Country of Origin Labeling, AMS will collaborate with standards development organizations (SDO) to establish marketing claims standards. The International Tenderness Marketing Claims, which are eligible to receive USDA Certification, are an example of the type of collaboration between AMS and ASTM International, formerly known as American Society for Testing and Materials, a SDO.

Therefore, AMS acknowledges that the U.S. Standards for Livestock and Meat Marketing Claims do not always help facilitate the marketing of agricultural products and will develop and maintain U.S. Standards for Livestock and Meat Marketing Claims when there is a statutory mandate to do so.

What does this mean for current users of the USDA Grass (Forage) Fed Marketing Claim Standard?

Current users of the USDA Grass (Forage) Fed Marketing Claim Standard have several options. USDA ISO Guide 65/ISO/IEC 17065 and USDA Process Verified Program applicants must identify a new Grass-fed Standard their company intends to meet by February 11, 2016 and must implement the new standard by April 11, 2016. This may be accomplished by (1) converting the USDA Grass (Forage) Fed Marketing Claim Standard into their private grass-fed standard, (2) using another recognized grass-fed standard, or (3) developing a new grass-fed standard. For the Small and Very Small Producer Program, applicants will see minimal change, as the requirements will be included in a procedural document.

AMS will list each company and the grass-fed standard it uses on the appropriate Official Listing.

What does this mean for current users of the USDA Naturally Raised Marketing Claim Standard?

There are no current users of the USDA Naturally Raised Marketing Claim Standard and therefore, there is no impact.

Dated: January 7, 2016.
Rex A. Barnes,
Associate Administrator, Agricultural Marketing Service.

[FR Doc. 2016-00440 Filed 1-11-16; 8:45 am]

BILLING CODE 3410-02-P